DEPARTMENT OF TRANSPORTATION

Maritime Administration

Reports, Forms and Recordkeeping Requirements; Agency Information Collection Activity Under OMB Review

AGENCY: Maritime Administration, DOT.

ACTION: Notice and request for comments.

SUMMARY: In compliance with the Paperwork Reduction Act of 1995 (44 U.S.C. 3501 et seq.), this notice announces that the information collection abstracted below has been forwarded to the Office of Management and Budget (OMB) for review and comment. Described below is the nature of the information collection and its expected burden. The Federal Register notice with a 60-day comment period soliciting comments on the following collection was published on February 15, 2000 [65 FR 7607]. Public comments were due on or before April 17, 2000. No comments were received.

DATES: Comments must be submitted on or before May 31, 2000.

FOR FURTHER INFORMATION CONTACT: Thomas W. Harrelson, Office of Cargo Preference, Maritime Administration, 400 Seventh Street, SW, Room 8118, Washington, DC 20590, telephone number 202-366-4610. Copies of this collection can also be obtained from that office.

SUPPLEMENTARY INFORMATION:

Maritime Administration

Title of Collection: “Monthly Report of Ocean Shipments Moving Under Export-Import Bank (Eximbank) Financing”.

OMB Control Number: 2133-0013.

Type of Request: Approval of an existing information collection.

Affected Public: Shippers who are subject to Eximbank financing requirements.

Form(s): MA-518.

Abstract: Title 46 App. U.S.C. 1241-1, Public Resolution 17, 73rd Congress (PR 17), requires MARAD to monitor and enforce the U.S.-flag shipping requirements relative to the loans/guarantees extended by the Eximbank to foreign borrowers. PR 17 requires that shipments financed by Eximbank and that move by sea, must be transported exclusively on U.S.-flag registered vessels unless a waiver is obtained from MARAD. The prescribed monthly report is necessary for MARAD to fulfill its responsibilities under PR 17, to ensure compliance of ocean shipping requirements operating under Eximbank financing, and to ensure equitable distribution of shipments between U.S.-flag and foreign ships. MARAD will use this information to report annually to Congress the total shipping activities during the calendar year.

Annual Estimated Burden Hours: 168 Hours.

ADDRESSES: Send comments to the Office of Information and Regulatory Affairs, Office of Management and Budget, 725-17th Street, NW, Washington, DC 20503, Attention MARAD Desk Officer.

Comments are Invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology. A comment to OMB is best assured of having its full effect if OMB receives it within 30 days of publication.

Dated: April 25, 2000.
Joel C. Richard,
Secretary, Maritime Administration.

[FR Doc. 00-10723 Filed 4-28-00; 8:45 am]

BILLING CODE 4910-81-P